DEPARTMENT OF DEFENSE

Office of the Secretary

[Docket ID: DOD-2025-HA-0343]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by February 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Understanding Service Member Experiences with Family Planning; OMB Control Number 0704-SMFP.

Type of Request: New.

Number of Respondents: 4,800.

Responses per Respondent: 1.

Annual Responses: 4,800.

Average Burden per Response: 1 hour.

Annual Burden Hours: 4,800 hours.

Needs and Uses: Building on prior experience executing the DoD Women's Reproductive Health Survey and other research on the health and health behaviors of service members (e.g., the Health Related Behaviors Survey), RAND National Defense Research Institute will conduct a series of focus groups with men and women across DoD service branches (Air Force, Army, Marine Corps, Navy, and Space Force) to augment this survey data and better understand how service members experience family planning both within the Military Health System and via community providers. These focus groups will also gather information on service members' experiences with any new policies related to reproductive health.

This study will highlight areas related to family planning that may threaten DoDs ability to field a ready and lethal force. It will also point to areas where DoD may need to augment or develop care, programs, services, or policies that provide needed reproductive health care and family planning services to the force in order to maintain and enhance health, readiness, retention, and lethality.

Affected Public: Individuals or households.

Frequency: Once.

Respondent's Obligation: Voluntary.

DOD Clearance Officer: Mr. Reginald Lucas.

Dated: January 23, 2026.
Stephanie J. Bost,
Alternate OSD Federal Register Liaison Officer, Department of Defense.

[FR Doc. 2026-01634 Filed 1-27-26; 8:45 am]

BILLING CODE 6001-FR-P